DEPARTMENT OF TRANSPORTATION

Federal Highway Administration

Environmental Impact Statement: Fresno County, California

AGENCY: Federal Highway Administration (FHWA), DOT.

ACTION: Notice of Intent.

SUMMARY: The FHWA, on behalf of the California Department of Transportation (Caltrans), is issuing this notice to advise the public that a Tier I Environmental Impact Statement (EIS) will be prepared for the State Route 180 Westside Expressway Route Adoption Study, located in Fresno County, California.

FOR FURTHER INFORMATION CONTACT: Trais Norris, Senior Environmental Planner, Sierra Pacific Environmental Analysis Branch, Caltrans, 2015 E. Shields Avenue, Suite 100, Fresno, California 93726, or call (559) 243-8178.

SUPPLEMENTARY INFORMATION: Effective July 1, 2007, the FHWA assigned, and Caltrans assumed, environmental responsibilities for this project pursuant to 23 U.S.C. 327. Caltrans will prepare a Tier I EIS on a proposal to establish a route for improving and extending State Route 180 (SR 180) from Interstate 5 (I-5) to State Route 99 (SR 99), in Fresno County, California.

In late 2005, at the behest of local and regional government representatives, Caltrans began work on a Route Adoption Study with a multi-staged alternative screening process and a broad range of environmental studies. All of this work was aimed at preparing and processing an Environmental Impact Report (EIR) under the California Environmental Quality Act of 1970 (CEQA) and subsequently recommending a route for adoption by the California Transportation Commission (CTC). The goal of this proposal has now extended to include preparation of a Tier I EIS under the National Environmental Policy Act (NEPA). SR 180 is a west-to-east, rural, two-lane highway extending approximately 25 miles between State Route 33 (SR 33) in the community of Kerman and SR 99 in the city of Fresno. A 20-mile gap exists between the current westerly terminus of SR 180 and I-5, farther to the west. The proposed action consists of selecting the most appropriate location for an ultimate four-lane expressway between I-5 and SR 99, over a distance of approximately 45 miles. Two generally 1,000-foot-wide alternative corridor alignments, the Northern Route and the Southern Route, will be considered in the EIS along with several alignment variations that avoid impacts to site-specific resources. The Northern Route Alternative extends an estimated 48.3 miles beginning at an existing interchange on I-5 at Shields Avenue. The Southern Route Alternative extends an estimated 47.4 miles beginning at a point where the Belmont Avenue alignment would intersect I-5 about 2 miles south of the Shields Avenue interchange. Both routes proceed east, bypassing the City of Mendota to the north and the south and merge on a single alignment between Shields and Belmont Avenues just east of the City of Mendota. Continuing east for approximately 10 miles, the routes split again. The Northern Route continues on an alignment just south of Belmont, terminating at Valentine Avenue in the City of Fresno. The Southern Route runs generally on an alignment just north of Whitesbridge and ends at a connection with the future westerly extension of SR 180 at Brawley Avenue. In addition, a No Build Alternative will be considered, which would leave existing SR 180 unchanged. Upon completion of the NEPA and CEQA environmental processes, the CTC will make the route adoption decision.

In 2005, letters describing the proposed action and soliciting comments were sent to the appropriate federal, state and local agencies and to private organizations and citizens who have expressed or are known to have interest in this proposal. Public information meetings were also held in February 2006 and October 2006. Although the proposal and the alternatives it describes are unchanged, following publication of the NOI, a public scoping meeting will be held on June 11, 2008 from 5 p.m. to 7 p.m. at the Kerman Community Center in Kerman, California. A newsletter describing the new direction and opportunity provided by the Tier I document will also be sent to agencies and local residents.

To ensure that the full range of issues related to this proposed action are addressed and all significant issues identified, comments and suggestions are invited from all interested parties. If you have any information regarding historic resources, endangered species, or other sensitive issues, which could be affected by this route adoption, please notify this office. Comments or questions concerning this proposed action and the EIS should be directed to Caltrans' contact at the address provided previously.

(Catalog of Federal Domestic Assistance Program Number 20.205, Highway Research, Planning, and Construction. The regulations implementing Executive Order 12372 regarding intergovernmental consultation on Federal programs and activities apply to this program.)

Issued on: May 12, 2008.
Nancy Bobb,
Director, State Programs, Federal Highway Administration, Sacramento, California.

[FR Doc. E8-11074 Filed 5-16-08; 8:45 am]

BILLING CODE 4910-22-P